DEPARTMENT OF AGRICULTURE

Rural Business-Cooperative Service

Inviting Applications for Rural Business Opportunity Grants

AGENCY: Rural Business-Cooperative Service, USDA.

ACTION: Notice.

SUMMARY: The Rural Business-Cooperative Service (RBS), an Agency within the Rural Development mission area, announces the availability of grants of up to $50,000 per application from the Rural Business Opportunity Grant (RBOG) Program for fiscal year (FY) 2002, to be competitively awarded. For multi-state projects, grant funds of up to $150,000 will be available on a competitive basis.

DATES: Any applications received in the Rural Development State Office after the date of this notice will be considered for funding after June 30, 2002.

ADDRESSES: For further information, entities wishing to apply for assistance should contact a Rural Development State Office to receive further information and copies of the application package. Potential applicants located in the District of Columbia must send their applications to the National Office at:

District of Columbia

Rural Business-Cooperative Service, USDA

Specialty Lenders Division

1400 Independence Avenue, SW., Room 6867

Washington, DC 20250-3225

(202) 720-1400

A list of Rural Development State Offices follows:

Alabama

USDA Rural Development State Office

Sterling Center, Suite 601

4121 Carmichael Road

Montgomery, AL 36106-3683

(334) 279-3400

Alaska

USDA Rural Development State Office

800 West Evergreen, Suite 201

Palmer, AK 99645-6539

(907) 761-7705

Arizona

USDA Rural Development State Office

3003 North Central Avenue, Suite 900

Phoenix, AZ 85012-2906

(602) 280-8700

Arkansas

USDA Rural Development State Office

700 West Capitol Avenue, Room 3416

Little Rock, AR 72201-3225

(501) 301-3200

California

USDA Rural Development State Office

430 G Street, Agency 4169

Davis, CA 95616-4169

(530) 792-5800

Colorado

USDA Rural Development State Office

655 Parfet Street, Room E-100

Lakewood, CO 80215

(720) 544-2903

Delaware-Maryland

USDA Rural Development State Office

P. O. Box 400

4607 South DuPont Highway

Camden, DE 19934-9998

(302) 697-4300

Florida/Virgin Islands

USDA Rural Development State Office

P. O. Box 147010

4440 NW. 25th Place

Gainesville, FL 32606

(352) 338-3402

Georgia

USDA Rural Development State Office

Stephens Federal Building

355 E. Hancock Avenue

Athens, GA 30601-2768

(706) 546-2162

Hawaii

USDA Rural Development State Office

Federal Building, Room 311

154 Waianuenue Avenue

Hilo, HI 96720

(808) 933-8380

Idaho

USDA Rural Development State Office

9173 West Barnes Dr., Suite A1

Boise, ID 83709

(208) 378-5600

Illinois

USDA Rural Development State Office

2118 West Park Court, Suite A

Champaign, IL 61821

(217) 403-6202

Indiana

USDA Rural Development State Office

5975 Lakeside Boulevard

Indianapolis, IN 46278

(317) 290-3100

Iowa

USDA Rural Development State Office

Federal Building, Room 873

210 Walnut Street

Des Moines, IA 50309-2196

(515) 284-4663

Kansas

USDA Rural Development State Office

Suite 100

1303 SW First American Place

Topeka, KS 66604

(785) 271-2700

Kentucky

USDA Rural Development State Office

771 Corporate Drive, Suite 200

Lexington, KY 40503

(859) 224-7300

Louisiana

USDA Rural Development State Office

3727 Government Street

Alexandria, LA 71302

(318) 473-7921

Maine

USDA Rural Development State Office

P. O. Box 405

967 Illinois Avenue, Suite 4

Bangor, ME 04402-0405

(207) 990-9106

Massachusetts/Rhode Island/Connecticut

USDA Rural Development State Office

451 West Street, Suite 2

Amherst, MA 01002-2999

(413) 253-4300

Michigan

USDA Rural Development State Office

3001 Coolidge Road, Suite 200

East Lansing, MI 48823

(517) 324-5100

Minnesota

USDA Rural Development State Office

410 AgriBank Building

375 Jackson Street

St. Paul, MN 55101-1853

(651) 602-7800

Mississippi

USDA Rural Development State Office

Federal Building, Suite 831

100 West Capitol Street

Jackson, MS 39269

(601) 965-4316

Missouri

USDA Rural Development State Office

601 Business Loop 70 West

Parkade Center, Suite 235

Columbia, MO 65203

(573) 876-0976

Montana

USDA Rural Development State Office

P. O. Box 771

900 Technology Blvd., Unit 1, Suite B

Bozeman, MT 59715

(406) 585-2580

Nebraska

USDA Rural Development State Office

Federal Building, Room 152

100 Centennial Mall North

Lincoln, NE 68508

(402) 437-5551

Nevada

USDA Rural Development State Office

1390 South Curry Street

Carson City, NV 89703-9910

(775) 887-1222

New Jersey

USDA Rural Development State Office

Tarnsfield Plaza, Suite 22

790 Woodlane Road

Mt. Holly, NJ 08060

(609) 265-3600

New Mexico

USDA Rural Development State Office

6200 Jefferson Street, NE.

Room 255

Albuquerque, NM 87109

(505) 761-4950

New York

USDA Rural Development State Office

The Galleries of Syracuse

441 South Salina Street, Suite 357

Syracuse, NY 13202-2541

(315) 477-6400

North Carolina

USDA Rural Development State Office

4405 Bland Road, Suite 260

Raleigh, NC 27609

(919) 873-2000

North Dakota

USDA Rural Development State Office

P. O. Box 1737

Federal Building, Room 208

220 East Rosser Avenue

Bismarck, ND 58502-1737

(701) 530-2037

Ohio

USDA Rural Development State Office

Federal Building, Room 507

200 North High Street

Columbus, OH 43215-2418

(614) 255-2500

Oklahoma

USDA Rural Development State

Office 100 USDA, Suite 108

Stillwater, OK 74074-2654

(405) 742-1000

Oregon

USDA Rural Development State Office

101 SW Main Street, Suite 1410

Portland, OR 97204-3222

(503) 414-3300

Pennsylvania

USDA Rural Development State Office

One Credit Union Place, Suite 330

Harrisburg, PA 17110-2996

(717) 237-2299

Puerto Rico

USDA Rural Development State Office

654 Munoz Rivera Avenue

IBM Plaza, Suite 601

Hato Rey, Puerto Rico 00918-6106

(787) 766-5095

South Carolina

USDA Rural Development State Office

Strom Thurmond Federal Building

1835 Assembly Street, Room 1007

Columbia, SC 29201

(803) 765-5163

South Dakota

USDA Rural Development State Office

Federal Building, Room 210

200 4th Street, SW.

Huron, SD 57350

(605) 352-1100

Tennessee

USDA Rural Development State Office

3322 West End Avenue, Suite 300

Nashville, TN 37203-1084

(615) 783-1300

Texas

USDA Rural Development State Office

Federal Building, Suite 102

101 South Main Street

Temple, TX 76501

(254) 742-9700

Utah

USDA Rural Development State Office

Wallace F. Bennett Federal Building

125 South State Street, Room 4311

P. O. Box 11350

Salt Lake City, UT 84147-0350

(801) 524-4321

Vermont/New Hampshire

USDA Rural Development State Office

City Center, 3rd Floor 89 Main Street

Montpelier, VT 05602

(802) 828-6010

Virginia

USDA Rural Development State Office

Culpeper Building, Suite 238

1606 Santa Rosa Road

Richmond, VA 23229-5014

(804) 287-1550

Washington

USDA Rural Development State Office

1835 Black Lake Boulevard, SW.

Suite B

Olympia, WA 98512-5715

(360) 704-7740

West Virginia

USDA Rural Development State Office

Federal Building 75 High Street, Room 320

Morgantown, WV 26505-7500

(304) 284-4860

Wisconsin

USDA Rural Development State Office

4949 Kirschling Court

Stevens Point, WI 54481

(715) 345-7610

Wyoming

USDA Rural Development State Office

Federal Building, Room 1005

100 East B Street

P. O. Box 820

Casper, WY 82602

(307) 261-6300

SUPPLEMENTARY INFORMATON:

Paperwork Reduction Act

In accordance with the Paperwork Reduction Act of 1995, the information collection requirements pertaining to this Notice are approved by the Office of Management and Budget (OMB) and were assigned OMB control number 0570-0024.

The RBOG program is authorized under section 306 of the Consolidated Farm and Rural Development Act (CONACT) (7 USC 1926(a)(11)). The Rural Development State Offices administer the RBOG program on behalf of RBS at the state level. The primary objective of the program is to improve the economic conditions of rural areas. Assistance provided to rural areas under this program may include technical assistance for business development and economic development planning.

A total of $2,100,000 of non-earmarked funds is available for the RBOG program for FY 2002. To ensure that a broad range of communities have the opportunity to benefit from the available funds, no grant will exceed $50,000, unless it is a multi-state project where funds may not exceed $150,000. Pursuant to the Agriculture, Rural Development, Food and Drug Administration, and Related Agencies Appropriation Act, 2002 (Pub. L. No. 107-76) a total of $3,000,000 has been earmarked for Native Americans, the Mississippi Delta area, and Empowerment Zones, Enterprise Communities, and Rural Economic Area Partnerships. There is no project dollar amount limitation on applications for earmarked funds. Awards are made on a competitive basis using specific selection criteria contained in 7 CFR part 4284, subpart G. 7 CFR part 4284, subpart G, also contains the information required to be in the application package. The State Director may assign up to 15 discretionary points to an application, and the Agency Administrator may assign up to 20 additional discretionary points based on geographic distribution of funds, special importance for implementation of a strategic plan in partnership with other organizations, or extraordinary potential for success due to superior project plans or qualifications of the grantee. The projects that score the greatest number of points based on the selection criteria and discretionary points will be selected. Applications will be tentatively scored by the State Offices and submitted to the National Office for review, final scoring, and selection.

The National Office will review the scores based on the grant selection criteria and weights contained in 7 CFR part 4284, subpart G. All applicants will be notified by RBS of the Agency decision on the awards.

Dated: February 14, 2002.
John Rosso,
Acting Administrator, Rural Business-Cooperative Service.

[FR Doc. 02-4407 Filed 2-22-02; 8:45 am]

BILLING CODE 3410-XY-P